DEPARTMENT OF HEALTH AND HUMAN SERVICES

Administration for Children and Families

Office of Refugee Resettlement

Services to Unaccompanied Alien Children

Announcement Type: Competitive Grant—Initial.

Funding Opportunity Number: HHS-2004-ACF-ORR-ZU-0007.

CFDA Number: 93.576.

Due Dates for Applications: August 6, 2004.

I. Funding Opportunity Description

Legislative Authority: This program is authorized by section 462(a) of the Homeland Security Act of 2002, (6 U.S.C. 279(a)), which transferred responsibility of the Unaccompanied Alien Children's Program (UAC) from the Commissioner of the Immigration and Naturalization Service (INS) to the Director of the Office of Refugee Resettlement (ORR) of the Department of Health and Human Services (HHS).

To implement the UAC program, the Director of ORR will utilize the refugee children foster care system established pursuant to section 412(d) of the Immigration and Nationality Act (8 U.S.C. 1522(d)) for the placement of unaccompanied alien children. All programs must comply with the Flores Settlement Agreement.

Purpose and Objectives: One of the functions of the Division of Unaccompanied Children's Services (DUCS) within ORR is to provide temporary shelter care (shelter, staff secure and secure) and other related services to children in ORR custody (as defined in Section I under Provision of Care of this announcement). Shelter care services will be provided for the period beginning when DUCS accepts a child for placement and ending when the child is either released from custody or a final disposition of the child's immigration case results in removal of the child from the United States.

This announcement provides the opportunity to fund providers for shelter care services. In this announcement, providers selected by ORR are referred to as “Recipients.”

The children, although placed in the physical custody of the Recipient, remain entirely in the legal custody of the Federal government (i.e., ORR).

The population level of alien children is expected to fluctuate as arrivals and case dispositions occur. Program content must, therefore, reflect differential planning of services to children in various stages of personal adjustment and administrative processing. Although the population of children is projected to consist primarily of adolescents, Recipients are expected to be able to serve some children who are under 12 years old.

Recipients of these funds are to facilitate the provision of assistance and services for each alien child including, but not limited to: physical care and maintenance, access to routine and emergency medical/mental health care, dental services, legal services, comprehensive needs assessment, education, recreation, individual and group counseling by licensed clinicians, access to religious services and other social services.

Recipients may be required to provide other services if ORR determines in advance that a service is reasonable and necessary for a particular child.

Recipients are expected to develop and implement an appropriate individualized service plan for the care and maintenance of each child in accordance with his/her needs as determined in an intake assessment. In addition, Recipients are required to implement and administer a case management system which tracks and monitors children's progress on a regular basis to ensure that each child receives the full range of program services in an integrated and comprehensive manner.

Shelter care services shall be provided in accordance with applicable State child welfare statutes and generally accepted child welfare standards, practices, principles, and procedures. Services must be delivered in an open type of setting without a need for extraordinary security measures. Recipients are, however, required to design programs and strategies to discourage runaways and prevent the unauthorized absence of children in their care.

Service delivery is expected to be accomplished in a manner which is sensitive to the culture, native language and needs of these children.

Client Population

It is anticipated that the client population will generally consist of males and females, 12 to17 years of age. Males constitute the majority while females comprise less than 17 percent of the total population of alien children. These minors are primarily nationals of El Salvador, Honduras, Mexico, Nicaragua, Guatemala, People's Republic of China and India; however, Recipients can expect to provide services to significant numbers of children from other countries. Recipients must also be prepared to provide child-care services to a limited number of children 12 years of age and younger.

Definition of Unaccompanied Alien Child

An unaccompanied alien child is a child who:

(a) Has no lawful immigration status in the United States;

(b) Has not attained 18 years of age; and

(c) With respect to whom:

(i) There is no parent or legal guardian in the United States; or,

(ii) No parent or legal guardian in the United states available to provide care and physical custody. (6 U.S.C. 279(g)(2))

Allowable Activities

All programs will be required to meet the Minimum Standards for Licensed Programs (Exhibit 1 of the Flores Statement Agreement) which requires that all unaccompanied alien children be provided with the following services as stated in Section I of this announcement: maintenance, medical, assessment, education, recreation/leisure, mental health services, individual counseling and group counseling, acculturation, orientation, access to religious services, visitation, right to privacy, family reunification services, legal service orientation and access to legal services such as pro bono attorney information and referral.

Geographic Locations

Applications submitted pursuant to this announcement must plan for the delivery of services to a population of at least 12 to 18 beds with a licensed capacity for future expansion based on the needs of the funding agency. The care facility should be located within a 30-mile radius of the metropolitan areas identified below:

• One of the following cities: New York, NY; Newark, NJ; Philadelphia, PA; or Wilmington, DE (Shelter Care Program).

• Phoenix or Tucson, AZ (Secure Program).

• Los Angeles or San Diego, CA (Staff Secure Program).

• One of the following cities: San Francisco, Oakland or San Jose, CA (Shelter Care Program).

• Seattle or Tacoma, WA (Staff Secure Program).

The geographical location of the Recipient is not restricted to a selected area of service. However, the Recipients must be able to substantiate that their network of local affiliates or their subcontractor(s) or sub-recipient(s) will be able to deliver the required services effectively and appropriately and that local service provider organizations are licensed under applicable State law to provide shelter care and related services to dependent children.

The provision of services will include: A structured, safe and productive environment which meets or exceeds respective State guidelines and Minimum Standards for services designed to serve children under ORR care and custody.

Provision of Care (Minimum Standards for Licensed Programs)

Licensed programs shall comply with all applicable State child welfare laws and regulations and all State and local building, fire, health and safety codes and shall provide or arrange for the services listed below for each child in their care based on the respective States regulations and the Minimum Standards for Licensed Programs as stated in Flores Settlement Agreements. The applicants must set forth in detail the following service areas:

1. Maintenance: Proper physical care and maintenance, including suitable living accommodations, food, appropriate clothing, and personal grooming items.

2. Medical: Appropriate routine medical and dental care, family planning services, and emergency health care services, a complete medical examination (including screening for infectious disease) within 48 hours of admission, excluding weekends and holidays, unless the child was recently examined at another facility; appropriate immunization in accordance with the U.S. Public Health Service (PHS), Centers for Disease Control; administration of prescribed medication and special diets; appropriate mental health interventions when necessary.

3. Assessment: An individualized needs assessment which includes: (1) Initial intake and assessment forms; (2) essential data relating to the identification and history of the child and family; (3) identification of the child's mental health and medical special needs including any specific issues which appear to require immediate intervention; (4) an educational assessment and plan; (5) an assessment of family relationships and interaction with adults, peers and authority figures; (6) a statement of religious preference and practice; (7) an assessment of the child's personal goals, strengths and weaknesses; and (8) identifying information regarding immediate family members, other relatives, godparents or friends who may be residing in the United States and may be able to assist in family reunification.

4. Education: Educational services, Monday through Friday, appropriate to the child's level of development, and communication skills in a structured classroom setting which concentrates primarily on the development of basic academic competencies, and secondarily on English Language Training (ELT). The educational program shall include instruction, educational materials and other reading materials in such languages as needed. Basic academic areas should include Science, Social Studies, Mathematics, Reading, Writing and Physical Education. The Recipient shall provide children with appropriate reading materials in languages other than English for use during the children's leisure time.

5. Recreation/Leisure: Activities according to a recreation and leisure time plan that includes daily outdoor activities, weather permitting, at least one hour per day of large muscle activity and one hour per day of structured leisure time activities (this should not include time spent watching television). Activities should be increased to a total of three hours daily on days when school is not in session.

6. Mental Health: Referral to or provision of mental health services, such as crisis intervention, including protocols and standards for emergency mental health situations; on-site or outpatient therapy and counseling; psychiatric evaluation, treatment, and medication management; psychological evaluation and assessment; therapeutic residential treatment; in-patient psychiatric care and other clinical interventions identified as appropriate by ORR.

7. Individual Counseling: At least one individual counseling session per week conducted by a licensed clinician with the specific objectives of reviewing the child's progress, establishing new short-term objectives, and addressing both the developmental, immediate concerns and special needs of each child.

8. Group Counseling: Programs shall conduct group counseling sessions/community meetings at least twice a week. This is usually an informal process and takes place with all the children present. It is a time when new children are given the opportunity to get acquainted with the staff, other children, and the rules of the program. Community meeting shall be an open forum where everyone gets a chance to speak. Daily program management is discussed and decisions are made about recreational activities, etc. Social work staff shall have a curriculum for group therapy that may be altered depending on the needs of the population. Group goals should include: managing aggressive thoughts/behaviors, improving social skills (including accepting feedback, disappointment, respect for authority, etc) and understanding the grieving stages and identifying grieving strategies.

9. Acculturation: Acculturation and adaptation services that include information regarding the development of social and inter-personal skills which contribute to the ability to live independently and responsibly.

10. Orientation: Upon admission, a comprehensive orientation regarding program intent, services, rules (written and verbal), expectations and the availability of legal assistance.

11. Religious Access: Whenever possible, access to religious services of the child's choice.

12. Visitation: Visitation and contact with family members (regardless of the family's immigration status) that is structured to encourage such visitation. The staff shall respect the child's privacy while reasonably preventing the unauthorized release of the child.

13. Right to Privacy: A reasonable right to privacy, which includes the right to: (1) Wear his or her own clothes, when available; (2) retain a private space in the residential facility, group or foster home for the storage of personal belongings; (3) talk privately on the phone, as permitted by the house rules and regulations; (4) visit privately with guests, as permitted by the house rules and regulations; and (5) receive and send uncensored mail unless there is a reasonable belief that the mail contains contraband.

14. Family Reunification Services: Family reunification services designed to identify relatives in the United States as well as in foreign countries and assistance in obtaining legal guardianship when necessary for the release of the child.

15. Legal Services Orientation: Legal services information regarding the availability and coordination of free legal assistance, the right to be represented by counsel at no expense to the government, the right to a removal hearing before an immigration judge, the right to apply for political asylum or to request voluntary departure in lieu of removal.

16. Cultural Sensitivity: Service delivery is to be accomplished in a manner which is sensitive to the age, culture, religion, dietary needs, native language and the complex needs of each child.

17. Rules: Program rules and discipline standards shall be formulated with consideration for the range of ages and maturity in the program and shall be culturally sensitive to the needs of alien children. Children shall not be subjected to corporal punishment, humiliation, mental abuse or punitive interference with the daily functions of living, such as eating or sleeping. Any sanctions employed shall not: (a) Adversely affect either a child's health, or physical or psychological well-being; or (b) deny a child regular meals, sufficient sleep, exercise, medical care, correspondence privileges, or legal assistance.

18. Service Plan: A comprehensive and realistic individual plan for the care of each child must be developed in accordance with the child's needs as determined by the individualized needs assessment. Individual plans shall be implemented and closely coordinated through an operative case management system.

19. Language Capacity: Programs shall hire and maintain staff that speaks the language of the children under their care.

20. Record Keeping: Programs shall develop, maintain and safeguard individual client case records. Agencies and organizations are required to develop a system of accountability which preserves the confidentiality of client information and protects the records from unauthorized use or disclosure. The records of clients served under this program are ORR's records.

21. Reporting to ORR: Programs shall maintain adequate program and financial records and make regular reports as required by ORR that permit ORR to monitor and enforce the Flores Settlement Agreement and other requirements and standards as ORR may determine are in the best interests of the children.

Program Design

The applicants must set forth in detail information concerning the following:

1. Agency Qualifications: A comprehensive overview of the applicant agency, agency qualifications and history, including philosophy, goals and history of experience with respect to the provision of child welfare or related services to children under 18 years of age from various cultural backgrounds and with various language capabilities.

2. Management Plan:

a. A plan for overall fiscal and program management and accountability.

b. A description of the organizational structure and lines of authority (organization chart).

c. A comprehensive program staffing plan and information regarding staff qualifications.

d. A comprehensive plan for coordination of activities between the various program components and coordination with other community and governmental agencies.

e. Staff supervisory model.

f. Provisions for staff training.

g. Proposed staff schedule(s).

h. A description of the role(s) and responsibility (ies) of the proposed consultants and the rationale for their use.

i. Listing of all federal, state, or local funded grants and/or contracts received.

3. Individual Client Service Plans—Applicants shall describe in detail:

a. The methodology regarding the development of individual client service plans;

b. The process to ensure that service plans will be periodically reviewed and updated; and,

c. The staff that will have responsibility for the development of updating of the plans.

4. Case Management—Describe in detail the case management system for tracking and monitoring client progress on a regular basis to ensure that each child receives the full range of program services in an integrated and comprehensive manner. Identify the staff positions responsible for coordinating the implantation and maintenance of the case management system.

5. Structure and Accountability—Applications must fully describe:

a. The plan for developing and maintaining internal structure, control and accountability through programmatic means.

b. Utilization of daily logs to track program activities.

c. Ability to produce statistical reports to track referral demographics and performance.

d. Ability to maintain a comprehensive children's database.

Characteristics of Program Site

Residential/Office Facility. Applicants are required to set forth in detail comprehensive information regarding:

1. A physical description of the proposed facility including the proposed allocation of office space (this shouldn't include new facility construction but to prove that applicants have facilities);

2. Diagrams, blueprints or drawings of the proposed facility;

3. Documentation that the facility meets all relevant zoning, licensing, fire, safety and health codes required to operate a residentially based social service program. Copies of relevant documents must be submitted at the time of application;

4. Facility ownership or leasing agreements must be fully explained and documented.

Level of Care and Custody

Levels of care are specific to geographic location as specified in Section I under Geographic Locations. All Minimum Standards apply. Applicants must apply based on their location and the corresponding level of care as reflected below (one application per location).

a. Shelter Care: Recipients shall provide shelter care, which could include group home care, and other related services to UACs. This shelter level of care will provide children with a structured, safe, and productive environment which meets or exceeds respective State guidelines and standards for similar care. The design of the shelter care program and facility should be in full compliance with the Flores Settlement Agreement including Minimum Standards for Licensed Programs..

Areas where Shelter Care Programs are needed: San Francisco, Oakland or San Jose, CA (one northern CA location only); Philadelphia, PA; New York, NY; Newark, NJ; or Wilmington, DE (only one in Mid Atlantic location)

b. Staff Secure (Medium Secure) Care: The staff secure facility should be designed for children who require close supervision but do not need placement in juvenile correctional facilities. This setting should significantly reduce/eliminate the use of physical restraints and facilitate a “safe-haven shelter” setting rather than a “juvenile detention” environment. The facility provides a heightened level of staff supervision, communication and services in a structured, licensed shelter care setting. Placements include children with adjudicated delinquency, chargeable offense (probable cause), conviction for a crime, or the subject of delinquency proceedings. Children with serious behavior issues in shelters, minor escape history/threats, or special supervision requirements, may be placed in staff secure facilities. Programs should be designed for children with minor offenses, isolated offenses not within a pattern or practice of criminal activity, offenses that do not involve serious violence against a person and petty/minor offenses. Examples of offender history could include: Shoplifting, joy riding, disturbing the peace, breaking and entering, vandalism, drug offenses, and driving under the influence (DUI). Program design should be consistent with the government's interest to ensure timely appearance before the immigration court and to protect the child's well-being and that of others.

Non-offender children must be separated from delinquent offenders. The program is required to maintain stricter security measures and higher staffing ratios than shelters in order to control problem behavior and discourage flight. Security and accountability are maintained through procedures, staffing patterns, and effective communication rather than bars, locks and restraints which are historically associated with juvenile detention. A staff secure facility must have a fence and security gate. There should be effective monitoring so that entry to and egress from the building can be controlled. Community trips are limited and controlled. The overall atmosphere should reflect a shelter rather than a detention center. There should be no lock-down procedures typically associated with traditional juvenile correctional (detention) facilities (e.g., strip searches, use of mechanical restraints, cell-like sleeping rooms, lack of privacy, razor wire etc.). Each staff secure facility should have the capability to upgrade “line of sight” supervision to 100 percent constant “line of sight and sound” staff supervision for a specific child. For example, constant supervision would be implemented rather than simply a 15 minute or 30 minute bed check. The facility should not exceed the level of security permitted under State law for a licensed shelter care facility which is necessary for children placed in its care. Specialized services should also be available for children with drug and alcohol problems and other special mental health needs with access to bi-lingual clinical assessments. Case management services should include reunification efforts and the preparation of reunification packets (for procedures how to prepare reunification packets, please refer to ORR/DUCS Guidance Letter #FY04-9, April 26, 2004) when appropriate. The staff secure facility should focus special attention on the security and staffing requirements detailed in the “ORR Program Procedure Manual” (Draft Pending) (Exhibit 1) and the “Flores Settlement Agreement” (Exhibit 2). Staff secure facilities must be in the compliance with the Flores Settlement Agreement, including the Minimum Standards for Licensed Programs.

Areas where Staff Secure Care Programs are needed: Seattle or Tacoma, WA and Los Angeles or San Diego, CA.

c. Non-traditional Secure Detention: Secure detention is typically reserved for children who have exhibited serious violent or criminal behavior that endangers others, such as carrying weapons in support of violence, having serious escapes risk/history, committing serious sex offenses, being documented gang members/leaders, and demonstrating extremely disruptive behavior in shelter/staff secure facilities. This small facility should have no more than 12 beds with typically a population of fewer than 12 children. Rather than using traditional juvenile detention centers, ORR/DUCS is asking for the design of small non-traditional secure programs in several strategic locations.

In addition to meeting child welfare standards/services and the staff secure levels of care, this secure detention facility should have the capability to physically restrain a violent child during an emergency. However, this should be limited to emergencies and escape precautions during transport and not be part of routine practice. Additionally, soft restraint technology, rather than hard restraints should be utilized (metal hand-cuffs, metal shackles, metal “belly chains” are not authorized in the non-traditional secure facility). In accordance with state detention standards, the facility, rooms, and windows may be locked. The proposal should be responsive to the “Standards for Small Juvenile Detention Facilities” detailed by the American Correctional Association (ACA), 3rd ed. (1991) and published supplements to those standards (Exhibit 3). These standards provide detailed information regarding small detention requirements. Moreover, Recipients are required to meet the Minimum Standards as stated in Exhibit 1 of the Flores Settlement Agreement.

Areas where Secure Care Programs are needed: Phoenix or Tucson, Arizona.

II. Award Information

Funding Instrument Type: Cooperative Agreements.

Description of Federal Substantial Involvement with Cooperative Agreement: ORR directs and supports grantees in the design and implementation of program activities, services and facilities; designing protocols or procedures; assisting in the selection of contractors (if applicable); key project staff; provide guidance in the collection and analysis of data and modification of project activities.

Anticipated Total Program Funding Amount: $5.4 million per budget period.

Anticipated Number of Awards: 5 per budget period.

Ceiling on Amount of Individual Award: $1 million per budget period, $1.2 million per budget period each for California Locations. The award amount is for planning purposes only.

Floor of Individual Amount Awards: $800,000 per budget period.

Average Anticipated Award Amount: $900,000 per budget period.

Budget Period for Awards: 12 months.

Project Period for Awards: 60 months.

Awards will be for one-year budget periods. The Project Period will be September 30, 2004, to September 29, 2009. Applications for continuation grants funded under these awards beyond the one-year budget period may be entertained on a non-competitive basis, subject to availability of funds, satisfactory progress of the project, and a determination that continued funding is in the best interest of the government.

III. Eligibility Information

III. 1. Eligible Applicants

Non-profit organizations including faith-based organizations incorporated under State law which have demonstrated child welfare, social service or related experience and are appropriately licensed (at the time of submission of the application) for the provision of shelter care, foster care, group home care, and related services to dependent children are eligible to apply.

For-profit organizations incorporated under State law which have demonstrated child welfare, social services or related experience, and are appropriately licensed (at the time of submission of the application) for the provision of shelter care, foster care, group home care, and other related services to dependent children, and which can clearly demonstrate that only actual costs and not profit, fees, or other elements above cost have been budgeted, are also eligible to apply.

Additional Information on Eligibility:

• Only one application per agency will be accepted.

• No agency is guaranteed an award.

• No agency is guaranteed that the amount of an award made to it will be in the same amount as its request.

The Director of ORR reserves the right to award more or less funding to any individual applicant or in total for all applicants based on the quality of the applications and the best interest of the Government. In cases where ORR proposes to award an amount less than an agency's application request, the agency will be required to submit a revised budget and budget narrative showing how the agency proposes to spend the amount ORR is proposing to award to the agency. If an agency fails to submit a commensurate revised budget within the time requested, the agency will forfeit the award.

Non-profit organizations applying for funding are required to submit proof of their non-profit status.

Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

III. 2. Cost-Sharing/Matching

None.

III. 3. Other (if Applicable)

On June 27, 2003, the Office of Management and Budget published in the Federal Register a new Federal policy applicable to all Federal grant applicants. The policy requires all Federal grant applicants to provide a Dunn and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711, or you may request a number online at http://www.dnb.com.

Please see section V.1 Evaluation Criteria for further information on reasons why applications will be considered non-responsive and returned without review.

IV. Application and Submission Information

IV. 1 Address To Request Application Package

Please contact: Name: Tsegaye Wolde, Office of Refugee Resettlement, Administration for Children and Families, U.S. Department of Health and Human Services, 901 D Street, SW., 6th Floor East, Washington, DC 20447. Phone: 202-401-5144. E-mail: twolde@acf.hhs.gov.

URL to obtain application package: http://www.Grants.Gov.

IV. 2 Content and Form of Application Submission

The required application package will include the following:

Application Content

Each application must include the following components:

1. Table of Contents

a. Abstract of the Proposed Project—very brief, not to exceed one page (would be suitable to use in announcing the grant award, if selected) and which identifies the type of project, the target population, and the major elements of the work plan.

b. Completed Standard Form 424—signed by an official of the organization applying for the grant who has authority to legally obligate the organization.

c. Standard Form 424A—Budget Information-Non Construction Programs.

d. Narrative Budget Justification—for each object class category required under Section B, Standard Form 424A.

e. Project Narrative—A narrative that addresses issues described in the “Application

f. Review Information and the Evaluation Criteria sections of this announcement.

Applicants have the option of omitting from the application copies (not the original) specific salary rates or amounts for individuals specified in the application budget.

Private non-profit organizations may voluntarily submit with their applications the survey located under “Grant Related Documents and Forms” titled “Survey for Private, Non-Profit Grant Applicants” at http://www.acf.hhs.gov/programs/ofs/forms.htm.

2. Application Format

• Submit application materials on white 8½ x 11 inch paper only. Do not use colored, oversized or folded materials.

• Please do not include organizational brochures or other promotional materials, slides, films, clips, etc.

• The font size may be no smaller than 12 pitch and the margins must be at least one inch on all sides.

• Number all application pages sequentially throughout the package, beginning with the abstract of the proposed project as page number one.

• Please present application materials either in loose-leaf notebooks or in folders with page two-hole punched at the top center and fastened separately with a slide paper fastener.

3. Page Limitation

• Each application narrative should not exceed 20 pages double-spaced.

• Attachments and appendices should not exceed 20 pages and should be used only to provide supporting documentation such as administration charts, position descriptions, resumes, and letters of intent or partnership agreements.

• A table of contents and an executive summary should be included but will not count in the page limitations.

• Each page should be numbered sequentially, including the attachments and appendices.

• This limitation of 20 pages should be considered as a maximum, and not necessarily a goal.

• Application forms are not to be counted in the page limit. Any applications that exceed the page limit will not be scored.

• Please do not include books or videotapes as they are not easily reproduced and are therefore inaccessible to the reviewers. The review panel will not consider submitted material which exceeds the 20 page limit.

4. Required Standard Forms

• Applicants requesting financial assistance for a non-construction project must sign and return with their applications the Standard Form 424B (Assurances: Non-Construction Programs).

• Applications must provide a Certification Regarding Lobbying on Standard Form LLL. Prior to receiving an award in excess of $750,000.00, applicants shall furnish an executed copy of the lobbying certification. Applicants must sign and return the certification with their application.

• Applicants must make the appropriate certification of their compliance with all Federal statutes relating to nondiscrimination. By signing and submitting the applications, applicants are providing the certification and need not mail back a certification form.

• Applicants must make the appropriate certification of their compliance with the requirements of the Pro-Children Act of 1994 as outlined in the Certification Regarding Environmental Tobacco Smoke.

• The forms (Forms 424, 424 A-B; and Certifications including Certification Regarding Lobbying; and Environmental Tobacco Smoke) may be found at: http://www.acf.hhs.gov/programs/ofs/forms.htm under new announcements.

• You may submit your application to us in either electronic or paper format. To submit an application electronically, please use the http://www.Grants.gov apply site. If you use Grants.gov you will be able to download a copy of the application package, complete it offline, and then upload and submit the application via the Grants.gov site. You may not e-mail an electronic copy of a grant application to us.

Please note the following if you plan to submit your application electronically via Grants.Gov:

• Electronic submission is voluntary.

• When you enter the Grants.Gov site, you will find information about submitting an application electronically through the site, as well as the hours of operation. We strongly recommend that you do not wait until the application deadline date to begin the application process through Grants.Gov.

• To use Grants.gov, you as the applicant, must have a DUNS Number and register in the Central Contractor Registry (CCR). You should allow a minimum of five days to complete the CCR registration.

• You will not receive additional point value because you submit a grant application in electronic format, nor will we penalize you if you submit an application in paper format.

• You may submit all documents electronically, including, all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Please see Section V. 1. Criteria, for instructions on preparing the project summary/abstract and the full project description.

IV. 3 Submission Dates and Times

The closing time and date for receipt of applications is 4:30 p.m. (eastern time zone) August 6, 2004. Mailed or hand carried applications received after 4:30 p.m. on the closing date will be classified as late.

Deadline: Mailed applications shall be considered as meeting an announced deadline if they are received on or before the deadline time and date at the U.S. Department of Health and Human Services, Administration for Children and Families, Division of Discretionary Grants, Attention: Sylvia M. Johnson, Grants Management Officer, 370 L'Enfant Promenade, SW., 4th floor, Washington, DC 20447. Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., e.s.t., at the U.S. Department of Health and Human Services, Administration for Children and Families, Division of Discretionary Grants ACF Mailroom, 2nd Floor (near loading dock), Aerospace Center, 901 D Street, SW., Washington, DC 20024, between Monday and Friday (excluding Federal holidays). This address must appear on the envelope/package containing the application with the note “Attention: Sylvia M. Johnson, Grants Officer”. Applicants are cautioned that express/overnight mail services do not always deliver as agreed.

ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. A determination to extend or waive deadline requirements rests with the Chief Grants Management Officer.”

Required Forms
What to submit | Required Content | Required form or format | When to submit
Table of Contents | As described in section IV.2. above | Consistent with guidance in “Application Format” section of this announcement | By application due date.
Abstract of Proposed Project | Brief abstract that identifies the type of project, the target population and the major elements of the proposed project | Consistent with guidance in “Application Format” section of this announcement | By application due date.
Completed Standard Form 424 | As described in section IV.2. above and per required form | May be found on http://www.acf.hhs.gov/programs.ofs/forms.htm | By application due date.
Completed Standard Form 424A | As described in section IV.2. above and per required form | May be found on http://www.acf.hhs.gov/programs/ofs/forms.htm | By application due date.
Narrative Budget Justification | As described in section IV.2. above | Consistent with guidance in “Application http://www.acf.hhs.gov/programs/ofs/forms.htm | By application due date.
Project Narrative | A narrative that addresses issues described in the “Application Review Information” and the “Evaluation Criteria” sections of this announcement | Consistent with guidance “Application Format” section of this announcement | By application due date.
Reason for automatic Rejection | Lack of State Licensing | All recipients must demonstrate that facilities have been approved by local State licensing Authorities | By application due date.
Certifications regarding lobbying and environmental tobacco smoke | As described in section IV.2. above and per required form | May be found on http://www.acf.hhs.gov/programs/ofs/forms.htm | By application due date.

Additional Forms:

Private non-profit organizations are encouraged to submit with their applications the survey located under “Grant Related Documents and Forms” titled “Survey for Private, Non-Profit Grant Applicants” at http://www.acf.hhs.gov/programs/ofs/forms.htm.

What to submit | Required content | Required form or format | When to submit
Survey for Private, Non-Profit Grant Applications | Per Required Form | See http://www.acf.hhs.gov/programs/ofs/forms.htm | By application due date.

IV. 4 Intergovernmental Review

State Single Point of Contact (SPOC)

This program is covered under Executive Order (E.O.) 12372, “Intergovernmental Review of Federal Programs,” and 45 CFR part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

IV. 5 Funding Restrictions

Pre-award costs are not allowable charges to this program grant.

IV. 6 Other Submission Requirements

Electronic Address to Submit Applications: http://www.Grants.gov.

Please see Section IV. 2. Content and Form of Application Submission of this application, for guidelines and requirements when submitting applications electronically.

Submission by Mail: Mailed applications shall be considered as meeting an announced deadline if they are received on or before the deadline time and date at: U.S. Department of Health and Human Services, Administration for Children and Families, Office of grants management, Division of Discretionary Grants, Attention: Sylvia M. Johnson, 370 L'Enfant Promenade, SW., Washington, DC 20447. Applicants are responsible for mailing applications well in advance, when using all mail services, to ensure that the applications are received on or before the deadline time and date.

Hand Delivery: Applications hand carried by applicants, applicant couriers, other representatives of the applicant, or by overnight/express mail couriers shall be considered as meeting an announced deadline if they are received on or before the deadline date, between the hours of 8 a.m. and 4:30 p.m., e.s.t., at the U.S. Department of Health and Human Services, Administration for Children and Families, Office of Grants management, Division of Discretionary Grants, ACF Mailroom, 2nd Floor (near loading dock), Aerospace Center, 901 D Street, SW., Washington, DC 20024, between Monday and Friday (excluding Federal holidays). This address must appear on the envelope/package containing the application with the note “Attention: Sylvia M. Johnson.” Applicants are cautioned that express/overnight mail services do not always deliver as agreed. ACF cannot accommodate transmission of applications by fax or e-mail.

V. Application Review Information

The Paperwork Reduction Act of 1995 (Public Law 104-13)

Public reporting burden for this collection of information is estimated to average 25 hours per response, including the time for reviewing instructions, gathering and maintaining the data needed and reviewing the collection information.

The project description is approved under OMB control number 0970-0139.

V.1 Evaluation Criteria

ORR will screen all applications submitted pursuant to this notice to determine whether an application is sufficiently complete to warrant consideration and review by the ORR Review Panel. Applications must be received by the closing date and meet all of the requirements contained in this notice. The awards are subject to the availability of funds. Applicants will be reviewed, evaluated, rated, and numerically ranked by an independent panel of experts on the basis of weighted criteria listed in this notice. All final funding decisions are at the discretion of the Director, Office of Refugee Resettlement.

An application may be rejected if:

a. The application is from an ineligible applicant;

b. The application is received after the closing date;

c. The application omits:

i. Documented written evidence of community support for the program;

ii. A comprehensive line-item budget with appropriate descriptive narrative, or;

iii. A copy of the latest financial audit of the applicant.

General Instructions: ACF is particularly interested in special factual information and statements of measurable goals in quantitative terms. Project descriptions are evaluated on the basis of substance, not length. Extensive exhibits are not required. Cross-referencing should be used rather than repetitive supporting information concerning activities that will not be directly funded by the grant or information that does not directly pertain to an integral part of the grant-funded activity should be placed in an appendix. Pages should be numbered and a table of contents should be included for easy reference.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

Introduction

Applicants required submitting a full project description shall prepare the project description statement in accordance with the following instructions and the specified evaluation criteria. The instructions give a broad overview of what your project description should include while the evaluation criteria expand and clarify more program-specific information that is needed.

Project Summary/Abstract

Provide a summary of the project description (a page or less), with reference to the funding request.

Provision of Care

Describe in detail the required program services outlined in Section IV. Provision of Care.

Program Design

Describe in detail the required program services outlined in Section V. Program Design.

Characteristics of Program Site

Describe in detail the required program services outlined in Section VI. Characteristics of Program Site.

Objectives and Need for Assistance

Clearly identify the physical, economic, social, financial, institutional, and/or other problem(s) requiring a solution. The need for assistance must be demonstrated and the principal and subordinate objectives of the project must be clearly stated. Supporting documentation, such as letters of support and testimonials from concerned interests other than the applicant, may be included. Any relevant data based on planning studies should be included, or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities to be accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

Evaluation

Provide a narrative addressing how the results of the project and the conduct of the project will be evaluated. In addressing the evaluation of the results, state how you will determine the extent to which the project has achieved its stated objects and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Geographic Location

Describe the precise location of the project and boundaries of the area to be served by the proposed project. Maps or other graphic aids may be attached.

Additional Information

Following is the additional information that should be placed in the appendix to the application.

Staff and Position Data

Provide a biographical sketch for each key person appointed and a job description for each vacant key position. A biographical sketch will also be required for new key staff as appointed.

Plan for Project Continuance

Provide a plan for securing resources and continuing project activities after Federal assistance has ceased.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

Dissemination Plan

Provide a plan for distributing reports and other project outputs to colleagues and the public. Applicants must provide a description of the kind, volume and timing of distribution.

Third-Party Agreements

Include written agreements between grantees and sub-grantees or subcontractors or other cooperating entities. These agreements must detail scope of work to be performed, work schedules, remuneration, and other terms and conditions that structure or define the relationship.

Letters of Support

Provide statements from community, public and commercial leaders that support the project proposed for funding. All submissions should be included in the application or by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wage.

Justification: Identify the project director or principal investigator, if known. For each staff person, provide the title, time commitment to the project (in months), time commitment to the project (as a percentage or full-time equivalent), annual salary; grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentage that comprise fringe benefit costs such as health insurance, FICA, retirement insurance, taxes, etc.

Travel

Description: Costs of project related travel by employees of the applicant organization (does not include costs of consultant travel).

Justification: For each trip, show the total number of traveler(s), travel destination, duration of trip, per diem, mileage allowances, if privately owned vehicles will be used, and other transportation costs and subsistence allowances. Travel costs for key staff to attend ACF sponsored workshops should be detailed in the budget.

Equipment

Description: “Equipment” means an article of nonexpendable, tangible personal property having a useful life of more than one year and an acquisition cost which equals or exceeds the lesser of (a) the capitalization level established by the organization for the financial statement purposes, or (b) $5,000.

(Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use part 92 procedures, must justify any anticipated procurement action that is expected to be awarded without competition and exceed the simplified acquisition threshold fixed at 41 U.S.C. 403(11). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (no contractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately, upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed. Indirect Costs may be reimbursed on an award only if the indirect cost rate agreement is in effect at the beginning of the project period/budget period and covers all or part of the period covered by the award.

Program Income

Description: The estimated amount of income, if any, expected to be generated from this project.

Justification: Describe the nature, source and anticipated use of program income in the budget or refer to the page in the application which contain this information.

Non-Federal Resources

Description

Amounts of non-Federal resources that will be used to support the project as identified in Block 15 of the SF-424.

Justification

The firm commitment of these resources must be documented and submitted with the application in order to be given credit in the review process. A detailed budget must be prepared for each funding source.

Total Direct Charges, Total Indirect Charges, Total, Total Project Costs

Self explanatory.

Evaluation Criteria: Applications will be reviewed and evaluated according to the following weighted criteria:

Evaluation Criterion I: Management Plan (Maximum: 20 Points)

• The quality of the applicant's program management and staffing plans as demonstrated by:

• The adequacy of the plan for program management and the plan for coordination between the components of the program.

• The adequacy of the plan for coordination with community and governmental agencies.

• The adequacy of the qualifications if the applicant organization, and the extent to which this organization has a demonstrated record as a provider of child welfare and/or other social services.

• The extent to which the applicant has a demonstrated capacity for effective fiscal management and accountability.

• The extent to which sub recipient(s)/subcontractor(s) have a demonstrated capacity for effective fiscal and program, management and accountability.

• The adequacy of the plans for staff supervision and intra-program communication.

• The adequacy of the staffing plans in terms of the relationship between the proposed functions and responsibilities of the staff in the program, and the education and relevant experience required for the position.

• Clear organizational charts delineating organizational relationships and levels of authority, including the identification of the staff position accountable for the overall management, direction and performance of the program.

Evaluation Criterion II: Provision of Care (Program Services) (Maximum: 20 Points)

The applicant's response to the required program services, including a description of program resources which demonstrates:

• The capacity of the program to offer comprehensive, integrated and differential services which meet the needs of the clients.

• Utilization of resources in a manner which enhances program control, structure and accountability.

• Provision of service in a manner which promotes and fosters cultural identification and mutual support.

• Ability to deal effectively with issues of culture, race, ethnicity and native language.

Evaluation Criterion III: Organizational Capacity (Maximum: 15 Points)

The degree to which the applicant provides effective strategies of programmatic control, predictability and accountability as evidenced by the structure and continuity inherent in the program design.

Evaluation Criterion IV: Program Design (Maximum: 15 Points)

The degree to which the entire proposed plan for developing, implementing and administering a state licensed program is clear, succinct, integrated, efficient, cost effective and likely to achieve program objectives. Program design includes overall physical location and description of the facility and its ability to best meet the objectives of the program and services offered. Key to program design is licensed capacity for future expansion.

Evaluation Criterion V: Case Management (Maximum: 10 Points)

The adequacy of the plans for:

a. Developing and updating individual client service plans; and,

b. The proposed system of case management.

c. Implementation and maintenance of a client computer database system.

Evaluation Criterion VI: Budget (Maximum: 10 Points)

The reasonableness of the proposed budget and budget narrative, in relation to proposed program activities.

Evaluation Criterion VII: External Factors (Maximum: 10 Points)

The degree to which the application has provided written documented evidence of community support and acceptance of the program.

V.2 Review and Selection Process

Review application submitted under this program announcement will undergo a pre-review to determine that (1) the application was received by the closing date and submitted in accordance with the instructions in this announcement and (2) the applicant is eligible for funding. It is necessary that applicants state specifically which priority area they are applying for. Applications will be screened for priority area appropriateness. If applications are found to be inappropriate for the priority area in which they are submitted, applicants will be contracted for verbal approval of redirection to a more appropriate priority area.

Applications which pass the initial ACF screening will be evaluated and rated by an independent review panel on the basis of specific evaluation criteria. The results of these reviews will assist the Director and ORR program staff in considering competing applications. Reviewers' scores will weigh heavily in funding decision, but will not be the only factors considered. Applications generally will be considered in order of the average scores assigned by reviewers. However, highly ranked applications are not guaranteed funding because other factors are taken into consideration. These include, but are not limited to, the number of similar types of existing grants or projects funded with ORR funds in the last five years; comments of reviewers and government officials; staff evaluation and input; geographic distribution; previous program performance of applicants; compliance with grant terms under previous DHHS grants; audit reports; investigative reports; an applicant's progress in resolving any final audit disallowance on previous ORR or other Federal agency grants. The evaluation criteria were designed to assess the quality of a proposed project, and to determine the likelihood of its success. The evaluation criteria are closely related and are considered as a whole in judging the overall quality of an application. Points are awarded only to an application which is responsive to the evaluation criteria within the context of this program announcement.

Federal reviewers will be used for the review process.

VI. Award Administration Information

VI.1 Award Notices

Successful applicants will receive the official notice of award, the Financial Assistance Award (FAA), which is signed by the Grants Management Office. The FAA is the authorizing document whether provided electronically or by mail. Unsuccessful applicants will receive a letter from the Grants Management Office declining their request for funding.

VI.2 Administrative and National Policy Requirements

45 CFR part 400 and 45 CFR parts 74 or 92.

VI.3 Reporting Requirements

Programmatic Reports: Quarterly Reports and a final report is due 90 days after the end of grant period.

Financial Reports: Semi-Annually and a final report is due 90 days after the end of a grant period.

Statistical Reports: As required by ORR.

Original reports and one copy should be mailed to the Grants Management Contact listed in section VII Agency Contacts.

Upon acceptance, grantees will receive formats and schedules for reporting on a quarterly basis for program activities and on a semi-annual basis for financial expenditure reports.

VII. Agency Contacts

Program Office Contact: Name: Tsegaye Wolde, Office of Refugee Resettlement, Administration for Children and Families, U.S. Department of Health and Human Services, 901 D Street, SW., 6th Floor East, Washington, DC 20447. E-mail: Twolde@acf.hhs.gov. Phone: 202-401-5144.

Grants Management Office Contact: Name: Sylvia M. Johnson, Grants Officer, HHS, ACF, Office of Grants management, Division of Discretionary Grants, 370 L'Enfant Promenade, SW., 4th Floor West, Washington, DC 20447. Phone: 202-401-4524. E-mail: sjohnson@acf.hhs.gov.

VIII. Other Information

The Director reserves the right to award more or less than the funds described in this announcement. In the absence of worthy applications, the Director may decide not to make an award if deemed in the best interest of the Government. Funding for future years, under this announcement, is at the availability of appropriate funds. The Director may invite applications outside of the proposed closing date, if necessary, to respond to the needs of the Unaccompanied Alien Children.

Dated: June 30, 2004.
Nguyen Van Hanh,
Director, Office of Refugee Resettlement, Administration for Children and Families, U.S. Department of Health and Human Services.

[FR Doc. 04-15267 Filed 7-6-04; 8:45 am]

BILLING CODE 4184-01-P